DEPARTMENT OF THE INTERIOR

National Park Service

Winter Use Plan, Environmental Impact Statement, Yellowstone National Park

AGENCY: National Park Service, Department of the Interior.

ACTION: Notice of Intent to prepare an Environmental Impact Statement for a Winter Use Plan, Yellowstone National Park.

SUMMARY: Pursuant to the National Environmental Policy Act of 1969, 42 U.S.C. 4332(2)(C), the National Park Service (NPS) is preparing an Environmental Impact Statement (EIS) for a Winter Use Plan for Yellowstone National Park, located in Idaho, Montana and Wyoming.

The purpose of the EIS is to establish a management framework that allows the public to experience Yellowstone's unique winter resources and values. This plan will determine whether motorized winter use of the park (including wheeled motor vehicles, snowmobiles, and snowcoaches) is appropriate, and if so, the types, extent, and location of this use.

A Winter Use Plan is needed at this time because: (1) Yellowstone offers unique winter experiences that are distinct from other times of the year; (2) the National Park Service provides opportunities for people to experience the park in the winter, but access to most of the park in the winter is limited by distance and the harsh winter environment, which present challenges to safety and park operations; and (3) the legal authority for oversnow vehicle use (snowmobiles and snowcoaches) at Yellowstone expires after the winter of 2010-2011. A decision is needed about whether this use should continue, and if so, how to structure use to protect resources and values and to provide for visitor use and enjoyment.

Alternatives considered in the EIS process will focus on responding to the purpose and need, and will also address the objectives of the EIS. The EIS will consider a variety of alternatives for managing winter use in the park, including the use of snowmobiles, snowcoaches, and wheeled vehicles, as well as requirement for professional guides to lead oversnow vehicles into and out of the park. The EIS will evaluate the environmental effects of winter use on air quality and visibility, wildlife, natural soundscapes, employee and visitor health and safety, visitor experience, and socioeconomics.

The NPS will be inviting several other government agencies to participate in the development of the EIS as cooperating agencies, including the states of Wyoming, Montana, and Idaho; the counties of Park and Teton, WY; Gallatin and Park, MT; and Fremont, ID; the Environmental Protection Agency; the U.S. Fish and Wildlife Service; and the U.S. Forest Service.

A scoping brochure has been prepared that details the issues identified to date, and includes the purpose, need and objectives of the EIS. Copies of the brochure may be obtained online at http://parkplanning.nps.gov/YELL (click on the link to the Winter Use Plan) or from Yellowstone National Park, P.O. Box 168, Yellowstone National Park, WY 82190, 307-344-2019.

The NPS is interested in obtaining comments from the public on the scope of the EIS; the purpose, need, and objectives; the issues that the EIS should address; and the alternatives that should be considered in the EIS. Comments submitted during this scoping period will allow the NPS to address public concerns as the EIS is prepared.

Background: The NPS is preparing this EIS to develop a long-term plan to allow the public to experience Yellowstone's unique winter resources and values. Currently, the vast majority of access to the park in winter is automobile access in the northern portion of the park and snowmobile and snowcoach access through the park's North, South, and East entrances. Snowmobile and snowcoach access in the park are currently authorized by an interim regulation, which allows their use for the winters of 2009-2010 and 2010-2011. The regulation mandates that the authorization of snowmobile and snowcoach use ends following the winter of 2010-2011, so their use will cease unless a new regulation is promulgated. Among other issues, the EIS will consider whether continued use of snowmobiles and snowcoaches is appropriate. If a determination is made that continued use of snowmobiles and/or snowcoaches is appropriate, this EIS is intended to satisfy the National Environmental Policy Act requirements for any new regulation.

Because the interim regulation's authorization of oversnow vehicle use is only in effect through the winter of 2010-2011, the NPS intends to complete this EIS and issue a new regulation, if necessary, based upon the outcome of the EIS process, prior to the start of the 2011-2012 winter season.

More information regarding Yellowstone in the winter, including educational materials and a detailed history of winter use in Yellowstone, is available at http://www.nps.gov/yell/planvisit/winteruse/index.htm.

DATES: The National Park Service will accept comments from the public for 60 days from the date that this Notice is published in the Federal Register. The National Park Service intends to hold public scoping meetings in Idaho Falls, ID, and Billings, MT, the week of February 15, 2010; and in Cheyenne, WY, and Washington, DC, the week of March 15, 2010. Details regarding the exact times and locations of these meetings will be announced on the park's Web site, at http://parkplanning.nps.gov/YELL (click on the link to the Winter Use Plan), and through local media.

ADDRESSES: Information specific to the EIS process will be available for public review and comment online at http://parkplanning.nps.gov/YELL (click on the link to the Winter Use Plan), and at Yellowstone National Park headquarters, Mammoth Hot Springs, WY.

FOR FURTHER INFORMATION CONTACT: John Sacklin, P.O. Box 168, Yellowstone National Park, WY 82190, (307) 344-2019, yell_winter_use@nps.gov.

SUPPLEMENTARY INFORMATION: If you wish to comment on the scoping brochure or on any other issues associated with the plan, you may submit your comments by any one of several methods. We encourage you to comment via the Internet at http://parkplanning.nps.gov/YELL (click on the link to the Winter Use Plan). You may also comment by mail to: Yellowstone National Park, Winter Use Scoping, P.O. Box 168, Yellowstone NP, WY 82190. Finally, you may hand deliver your comments to: Management Assistant's Office, Headquarters Building, Mammoth Hot Springs, Yellowstone National Park, WY. Comments will not be accepted by fax, e-mail, or in any other way than those specified above.

Before including your address, phone number, e-mail address, or other personal identifying information in your comment, you should be aware that your entire comment—including your personal identifying information—may be made publicly available at any time. While you can ask us in your comment to withhold your personal identifying information from public review, we cannot guarantee that we will be able to do so.

Dated: January 8, 2010.
Michael D. Snyder,
Director, Intermountain Region, National Park Service.

[FR Doc. 2010-1914 Filed 1-28-10; 8:45 am]

BILLING CODE P